DEPARTMENT OF ENERGY

Federal Energy Regulatory Commission

Combined Notice of Filings # 1

January 28, 2010.

Take notice that the Commission received the following electric rate filings:

Docket Numbers: ER00-3251-023; ER01-1147-011; ER01-1919-017; ER01-513-029; ER98-1734-020; ER99-2404-016.

Applicants: Exelon Generation Company, LLC; PECO Energy Company; Exelon Energy Company; Exelon Framingham, LLC, Exelon New Boston, LLC, Exelon West Medway, LLC, Exelon Wyman, LLC; Commonwealth Edison Company; Exelon New England Power Marketing, LP.

Description: Quarterly Report (Q4 2009) pursuant to Order 697-C of Exelon MBR Companies.

Filed Date: 01/27/2010.

Accession Number: 20100127-5161.

Comment Date: 5 p.m. Eastern Time on Wednesday, February 17, 2010.

Docket Numbers: ER06-972-004.

Applicants: Thornwood Management Company, LLC.

Description: Thornwood Management Co submits revisions to its market-based rate schedule.

Filed Date: 01/27/2010.

Accession Number: 20100127-0210.

Comment Date: 5 p.m. Eastern Time on Wednesday, February 17, 2010.

Docket Numbers: ER06-972-005.

Applicants: Thornwood Management Company, LLC.

Description: Thornwood Management Co, LLC submits the Updated Market Power Analysis.

Filed Date: 01/27/2010.

Accession Number: 20100127-0211.

Comment Date: 5 p.m. Eastern Time on Wednesday, February 17, 2010.

Docket Numbers: ER10-398-001.

Applicants: Alcoa Power Generating Inc.

Description: Alcoa Power Generating Inc submits Substitute Revised Sheet No 31 to FERC Electric Rate Schedule No 19, the Exchange Agreement with Tennessee Valley Authority.

Filed Date: 01/27/2010.

Accession Number: 20100128-0203.

Comment Date: 5 p.m. Eastern Time on Wednesday, February 17, 2010.

Docket Numbers: ER10-619-001.

Applicants: Southwest Power Pool, Inc.

Description: South Power Pool, Inc submits errata filing to correct the error, and includes a clean and redlined version of the corrected Tariff Page as Exhibits I and II.

Filed Date: 01/27/2010.

Accession Number: 20100128-0206.

Comment Date: 5 p.m. Eastern Time on Wednesday, February 17, 2010.

Docket Numbers: ER10-636-000.

Applicants: Centre Lane Trading Ltd.

Description: Centre Lane Trading Ltd submits the Petition for Acceptance of Initial Rate Schedule, Waivers and Blanket Authority.

Filed Date: 01/27/2010.

Accession Number: 20100127-0209.

Comment Date: 5 p.m. Eastern Time on Wednesday, February 17, 2010.

Docket Numbers: ER10-642-000.

Applicants: Algonquin Tinker Gen Co.

Description: Algonquin Tinker Gen Co et al submits a Notice of Name Change and Succession.

Filed Date: 01/27/2010.

Accession Number: 20100127-0206.

Comment Date: 5 p.m. Eastern Time on Wednesday, February 17, 2010.

Docket Numbers: ER10-643-000.

Applicants: Algonquin Northern Maine Gen Co.

Description: Algonquin Tinker Gen Co et al submits a Notice of Name Change and Succession.

Filed Date: 01/27/2010.

Accession Number: 20100127-0206.

Comment Date: 5 p.m. Eastern Time on Wednesday, February 17, 2010.

Docket Numbers: ER10-644-000.

Applicants: PJM Interconnection, LLC.

Description: PJM Interconnection, LLC submits amendments to Schedule 12 of the Amended and Restated Operating Agreement.

Filed Date: 01/27/2010.

Accession Number: 20100127-0207.

Comment Date: 5 p.m. Eastern Time on Wednesday, February 17, 2010.

Docket Numbers: ER10-645-000.

Applicants: MidAmerican Energy Company.

Description: MidAmerican Energy Co submits the jointly executed Network Customer Owned Transmission Facilities Credit Agreement.

Filed Date: 01/27/2010.

Accession Number: 20100127-0208.

Comment Date: 5 p.m. Eastern Time on Wednesday, February 17, 2010.

Docket Numbers: ER10-646-000.

Applicants: Arizona Public Service Company.

Description: Arizona Public Service Co submits the Morgan-Pinnacle Peak Participation Agreement.

Filed Date: 01/27/2010.

Accession Number: 20100127-0205.

Comment Date: 5 p.m. Eastern Time on Wednesday, February 17, 2010.

Docket Numbers: ER10-647-000.

Applicants: Kentucky Utilities Company.

Description: Kentucky Utilities Company submits amendment to a contract between KU and the City Utilities Commission of City of Owensboro Kentucky under FERC Rate Schedule 300.

Filed Date: 01/27/2010.

Accession Number: 20100127-0215.

Comment Date: 5 p.m. Eastern Time on Wednesday, February 17, 2010.

Docket Numbers: ER10-648-000.

Applicants: Kentucky Utilities Company.

Description: Kentucky Utilities Company submits amendment to a contract between KU and the City of Paris under FERC Rate Schedule 301.

Filed Date: 01/27/2010.

Accession Number: 20100127-0216.

Comment Date: 5 p.m. Eastern Time on Wednesday, February 17, 2010.

Docket Numbers: ER10-649-000.

Applicants: Kentucky Utilities Company.

Description: Kentucky Utilities Company submits amendment to a contract between KU and the City of Bradstown Kentucky under FERC Rate Schedule 302.

Filed Date: 01/27/2010.

Accession Number: 20100127-0217.

Comment Date: 5 p.m. Eastern Time on Wednesday, February 17, 2010.

Docket Numbers: ER10-650-000.

Applicants: Kentucky Utilities Company.

Description: Kentucky Utilities Company submits amendment to a contract between KU and the City of Nicholasville, Kentucky under FERC Rate Schedule 303.

Filed Date: 01/27/2010.

Accession Number: 20100127-0218.

Comment Date: 5 p.m. Eastern Time on Wednesday, February 17, 2010.

Docket Numbers: ER10-651-000.

Applicants: Kentucky Utilities Company.

Description: Kentucky Utilities Company submits amendment to a contract between KU and the City of Bardourville, Kentucky under FERC Rate Schedule.

Filed Date: 01/27/2010.

Accession Number: 20100127-0219.

Comment Date: 5 p.m. Eastern Time on Wednesday, February 17, 2010.

Docket Numbers: ER10-652-000.

Applicants: Kentucky Utilities Company.

Description: Kentucky Utilities Company submits amendment to a contract between KU and the City of Providence, Kentucky under FERC Rate Schedule 305.

Filed Date: 01/27/2010.

Accession Number: 20100127-0220.

Comment Date: 5 p.m. Eastern Time on Wednesday, February 17, 2010.

Docket Numbers: ER10-653-000.

Applicants: Kentucky Utilities Company.

Description: Kentucky Utilities Company submits amendment to a contract between KU and the City of Madisonville, Kentucky under FERC Rate Schedule 306.

Filed Date: 01/27/2010.

Accession Number: 20100127-0221.

Comment Date: 5 p.m. Eastern Time on Wednesday, February 17, 2010.

Docket Numbers: ER10-654-000.

Applicants: Kentucky Utilities Company.

Description: Kentucky Utilities Company submits amendment to a contract between KU and the City of Bardwell, Kentucky under FERC Rate Schedule 302.

Filed Date: 01/27/2010.

Accession Number: 20100127-0222.

Comment Date: 5 p.m. Eastern Time on Wednesday, February 17, 2010.

Docket Numbers: ER10-655-000.

Applicants: Kentucky Utilities Company.

Description: Kentucky Utilities Company submits amendment to a contract between KU and the City of Benham, Kentucky under FERC Rate Schedule 308.

Filed Date: 01/27/2010.

Accession Number: 20100127-0223.

Comment Date: 5 p.m. Eastern Time on Wednesday, February 17, 2010.

Docket Numbers: ER10-656-000.

Applicants: Kentucky Utilities Company.

Description: Kentucky Utilities Company submits amendment to a contract between KU and the City of Corbin, Kentucky under FERC Rate Schedule 309.

Filed Date: 01/27/2010.

Accession Number: 20100127-0224.

Comment Date: 5 p.m. Eastern Time on Wednesday, February 17, 2010.

Docket Numbers: ER10-657-000.

Applicants: Kentucky Utilities Company.

Description: Kentucky Utilities Company submits amendment to a contract between KU and the City of Falmouth, Kentucky under FERC Rate Schedule 310.

Filed Date: 01/27/2010.

Accession Number: 20100127-0225.

Comment Date: 5 p.m. Eastern Time on Wednesday, February 17, 2010.

Docket Numbers: ER10-658-000.

Applicants: Kentucky Utilities Company.

Description: Kentucky Utilities Company submits amendment to a contract between KU and the City of Frankfort City Electric and Water Plant Bored, Kentucky under FERC Rate Schedule 311.

Filed Date: 01/27/2010.

Accession Number: 20100127-0226.

Comment Date: 5 p.m. Eastern Time on Wednesday, February 17, 2010.

Docket Numbers: ER10-659-000.

Applicants: Southwest Power Pool, Inc.

Description: Southwest Power Pool, Inc submits revisions to its Open Access Transmission Tariff, to be effective 1/28/2010.

Filed Date: 01/27/2010.

Accession Number: 20100128-0202.

Comment Date: 5 p.m. Eastern Time on Wednesday, February 17, 2010.

Docket Numbers: ER10-660-000.

Applicants: California Independent System Operator Corporation.

Description: California Independent System Operator Corporation submits letter agreement for Bidding of Regulation Ancillary Service by Sano Regulation Center with and AES Energy Storage LLC.

Filed Date: 01/27/2010.

Accession Number: 20100128-0201.

Comment Date: 5 p.m. Eastern Time on Wednesday, February 17, 2010.

Docket Numbers: ER10-661-000.

Applicants: PJM Interconnection, LLC.

Description: PJM Interconnection, LLC submits executed interconnection service agreement among PJM, Mehoopany Wind Energy LLC, et al.

Filed Date: 01/27/2010.

Accession Number: 20100128-0204.

Comment Date: 5 p.m. Eastern Time on Wednesday, February 17, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-2622 Filed 2-5-10; 8:45 am]

BILLING CODE 6717-01-P